POSTAL SERVICE

39 CFR Part 20

Outbound International Mailings of Lithium Batteries

AGENCY: Postal Service™.

ACTION: Final rule with comment period.

SUMMARY: The Postal Service is revising the Mailing Standards of the United States Postal Service, International Mail Manual (IMM®) section 135.6, to incorporate new maximum limits for the outbound mailing of lithium batteries. This is consistent with recent amendments to the Universal Postal Union (UPU) Convention.

DATES: Effective Date: October 3, 2011. We must receive your comments on or before September 26, 2011.

ADDRESSES: Mail or deliver written comments to the manager, Product Classification, U.S. Postal Service®, 475 L'Enfant Plaza, SW., Room 4446, Washington, DC 20260-5015. You may inspect and photocopy all written comments at USPS® Headquarters Library, 475 L'Enfant Plaza, SW., 11th Floor N, Washington, DC between 9 a.m. and 4 p.m., Monday through Friday. E-mail comments, containing the name and address of the commenter, may be sent to MailingStandards@usps.gov, with a subject line of “International Lithium Batteries.” Faxed comments are not accepted.

FOR FURTHER INFORMATION CONTACT: Rick Klutts at 813-877-0372.

SUPPLEMENTARY INFORMATION: The Postal Service is making this change to be consistent with the amendments to the UPU Convention and regulations as announced in International Bureau Circulars 114 and 115, dated June 14, 2011. The amendments affect UPU Convention Article 15 and Article 16, Article RL 131 of the letter post regulations, and RC 120 of the parcel post regulations regarding the mailing of certain lithium cells and batteries. Additional details about this UPU change can be found at: http://pe.usps.com/FRN/IB_Circ_114-115.pdf.

This final rule describes the requirements established for mailpieces containing equipment with lithium metal or lithium-ion batteries in accordance with Packing Instruction 967, Section II, or Packing Instruction 970, Section II, as applicable when mailed internationally or to an APO, FPO or DPO location. These instructions can be found in the current edition of the Technical Instruction for the Safe Transport of Dangerous Goods by Air as published by the International Civil Aviation Organization.

This final rule allows limited quantities of lithium batteries typically used in consumer products, including many electronic devices, to be safely transported in the international mailstream.

The Postal Service will also make parallel changes to other USPS publications that make reference to the international mailing of lithium batteries such as Mailing Standards of the United States Postal Service, Domestic Mail Manual (DMM®) and Publication 52, Hazardous, Restricted, and Perishable Mail.

The Postal Service hereby adopts the following changes to Mailing Standards of the United States Postal Service, International Mail Manual (IMM), which is incorporated by reference in the Code of Federal Regulations. See 39 CFR 20.1.

List of Subjects in 39 CFR Part 20

Foreign relations, International postal services.

Accordingly, 39 CFR Part 20 is amended as follows:

PART 20—[AMENDED]

1. The authority citation for 39 CFR Part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of Mailing Standards of the United States Postal Service, International Mail Manual (IMM), as follows:

Mailing Standards of the United States Postal Service, International Mail Manual (IMM)

1 International Mail Services

* * * * *

130 Mailability

* * * * *

135 Mailable Dangerous Goods

* * * * *

[Insert new 135.6 as follows:]

135.6 Batteries.

135.61 General.

Only lithium batteries under 62 and 63 that are properly installed in the equipment they operate may be sent internationally. Lithium batteries packed with equipment and lithium batteries sent separately from equipment are prohibited. Damaged or recalled batteries are prohibited and may not be mailed internationally under any circumstances.

135.62 Primary Lithium (Non-Rechargeable) Cells and Batteries.

Small consumer-type primary lithium cells or batteries (lithium metal or lithium alloy) like those used to power cameras and flashlights are mailable in a single shipment with the following restrictions:

a. The batteries must be installed in the equipment being shipped.

b. Each shipment may contain a maximum of four lithium cells or two lithium batteries.

c. The lithium content must not exceed 1 gram (g) per cell.

d. The total aggregate lithium content must not exceed 2 g per battery.

e. The batteries installed in the equipment must be protected from damage and short circuit.

f. The equipment must be equipped with an effective means of preventing it from being turned on or activated.

g. The equipment must be cushioned to prevent movement or damage and be contained in a strong enough sealed package to prevent crushing of the package or exposure of the contents during normal handling in the mail.

135.63 Secondary Lithium-ion (Rechargeable) Cells and Batteries.

Small consumer-type lithium-ion cells and batteries like those used to power cell phones and laptop computers are mailable in a single shipment with the following restrictions:

a. The batteries must be installed in the equipment being shipped.

b. Each shipment may contain a maximum of four lithium-ion cells or two lithium-ion batteries.

c. The lithium content must not exceed 20 Watt-hour rating (Wh) per cell.

d. The total aggregate lithium content must not exceed 100 Wh per battery.

e. Each battery must bear the “Watt-hour” or “Wh” marking on the battery to determine if it is within the limits defined in items c and d.

f. The batteries installed in the equipment must be protected from damage and short circuit.

g. The equipment must be equipped with an effective means of preventing it from being turned on or activated.

h. The equipment must be cushioned to prevent movement or damage and be contained in a strong enough sealed package to prevent crushing of the package or exposure of the contents during normal handling in the mail.

* * * * *

We will publish an amendment to 39 CFR Part 20 to reflect these changes.

Stanley F. Mires,
Chief Counsel, Legislative.

[FR Doc. 2011-21443 Filed 8-24-11; 8:45 am]

BILLING CODE 7710-12-P